DEPARTMENT OF ENERGY

Federal Energy Regulatory Commission

[Project No. 2744-043]

North East Wisconsin Hydro, LLC: Notice of Application Tendered for Filing With the Commission, Soliciting Additional Study Requests, and Establishing Procedural Schedule for Relicensing and a Deadline for Submission of Final Amendments

Take notice that the following hydroelectric application has been filed with the Commission and is available for public inspection.

a. Type of Application: New license.

b. Project No.: P-2744-043.

c. Date filed: February 28, 2013.

d. Applicant: North East Wisconsin Hydro, LLC.

e. Name of Project: Menominee—Park Mill Hydroelectric Project.

f. Location: On the Menominee River in Marinette County, Wisconsin and in Menominee County, Michigan. The project does not affect federal lands.

g. Filed Pursuant to: Federal Power Act 16 U.S.C. 791(a)-825(r).

h. Applicant Contact: Scott Klabunde, North American Hydro Holdings, LLC, P.O. Box 167, 116 North State Street, Neshkoro, WI 54960-0167; or at (920) 293-4628.

i. FERC Contact: Lee Emery at (202) 502-8379 or by email at lee.emery@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 29, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The existing Menominee—Park Mill Hydroelectric Project consists of two existing developments: Menominee and Park Mill. The Park Mill Development is located about 1 mile upstream of the Menominee Development.

The Menominee Development consists of: (1) A 466.5-foot-long, 24-foot-high existing concrete gravity dam with a normal operating head of 12 feet; (2) an impoundment with a normal operating elevation of 594.0 feet mean sea level (msl) and a surface area of 143 acres; (3) a 204-foot-long concrete and brick powerhouse integral with the dam and located on the Michigan side of the river; (4) two Kaplan turbine units each connected to a 0.458-megawatt (MW) generator and two Kaplan turbine units each connected to a 0.662-MW generator for a combined installed capacity of 2.240 MW; (5) an above ground 24.9-kilovolt (kV) transmission line that connects the project substation to the local utility distribution lines; and (6) other appurtenant facilities.

The Park Mill Development consists of: (1) A 538.58-foot-long, 22-foot-high existing concrete gravity dam with a normal operating head of 16 feet; (2) an impoundment with a normal operating elevation of 610.0 feet msl and a surface area of 539 acres; (3) a 2,400-foot long intake headrace canal; (4) a 138-foot-long stone and brick powerhouse located on the Wisconsin side of the river; (5) one Kaplan turbine unit connected to a 0.225-MW generator, two Francis turbine units each connected to a 0.420-MW generator, two Kaplan turbine units each connected to a 0.430-MW generator, and one Kaplan turbine unit connected to a 0.450-MW generator for a combined installed capacity of 2.375 MW; (6) an above ground 24.9-kV transmission line that connects the project substation to the local utility distribution lines; and (7) other appurtenant facilities.

The project operates in a run-of-river mode. The average annual generation for the project is about 30,455 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Michigan State Historic Preservation Officer, as required by section 106 of the National Historic Preservation Act, and the regulations of the Advisory Council on Historic Preservation, 36 CFR 800.4.

q. Procedural schedule and final amendments: The application will be processed according to the following preliminary Hydro Licensing Schedule. Revisions to the schedule will be made as appropriate.

Issue Notice of Acceptance May 2013

Issue Scoping Document 1 for comments June 2013

Comments due on Scoping Document 1 July 2013

Issue notice of ready for environmental analysis September 2013

Issue Environmental Assessment (EA) April 2014

Comments due on EA May 2014

Final amendments to the application must be filed with the Commission no later than 30 days from the issuance date of the notice of ready for environmental analysis.

Dated: March 13, 2013.
Kimberly D. Bose,
Secretary.

[FR Doc. 2013-06333 Filed 3-19-13; 8:45 am]

BILLING CODE 6717-01-P